DEPARTMENT OF THE TREASURY

Agency Information Collection Activities; Proposed Collection; Comment Request; Emergency Rental Assistance Program (ERA2)

AGENCY: Office of Recovery Programs, Departmental Offices, U.S. Department of the Treasury.

ACTION: Notice of information collection; request for comment.

SUMMARY: The Department of the Treasury, as part of its continuing effort to reduce paperwork and respondent burden, invites the general public and other federal agencies to comment on the proposed information collections listed below, in accordance with the Paperwork Reduction Act of 1995.

DATES: Comments should be received on or before December 30, 2022 to be assured of consideration.

ADDRESSES: Send comments regarding the burden estimate, or any other aspect of the information collection, including suggestions for reducing the burden, to Melody Braswell, Treasury PRA Clearance Officer, 1750 Pennsylvania Ave. NW, Suite 8100, Washington, DC 20220, or email at PRA@treasury.gov. Copies of the submissions may be obtained from Haley Adams by emailing haley.adams@treasury.gov or viewing the entire information collection request at www.reginfo.gov.

SUPPLEMENTARY INFORMATION:

Title: Emergency Rental Assistance Program (ERA2).

OMB Control Number: 1505-0270.

Type of Review: Extension of a previously approved collection.

Description: On March 11, 2021, the President signed the American Rescue Plan Act of 2021 (the “Act”) into law. The Act authorizes the Secretary of the Treasury to disburse $21.55 billion of Emergency Rental Assistance (ERA2) to States, the District of Columbia, U.S. Territories, and certain local governments with more than 200,000 residents (collectively, “grantees”) to provide financial assistance and housing stability services to eligible households. Beginning on October 1, 2022, eligible ERA2 grantees that have obligated 75% of the ERA2 funds allocated to them may also use their remaining unobligated funds on other affordable rental housing and eviction prevention activities, as defined by the Secretary, serving very low-income families.

The Act requires Treasury to reallocate funds initially allocated, but not yet paid, to eligible grantees, according to a procedure established by Treasury. Pursuant to the reallocation procedure Treasury has established, Treasury identifies funds subject to reallocation on a quarterly basis and refers to them as “excess funds.” To identify the eligible grantees interested in receiving reallocated funds, Treasury solicits Request for Reallocation forms through its ERA2 program portal, which capture the amount of each grantee's request as well as information confirming that a requesting grantee meets certain eligibility requirements, including the statutory requirement that a grantee obligate at least 50% of its initial ERA2 allocation before receiving reallocated funds.

In addition to confirming grantees' eligibility to receive reallocated funds, the reallocation forms on Treasury's ERA2 portal allow Treasury to collect information needed to determine which grantees to prioritize in the distribution of reallocated funds. Treasury's prioritization calculation considers: whether potential recipient grantees are located in the same state as transferor grantees; potential recipient grantees' rate of expenditure; and potential recipient grantees' jurisdictional needs. Pursuant to Treasury's ERA2 program guidance, starting with reallocation based on data as of June 30, 2022 (known as the Quarter 2 Assessment), Treasury will also prioritize, among eligible grantees, those grantees that have expended non-ERA funds, including State and Local Fiscal Recovery Funds, for rental or utility assistance substantially similar to eligible uses under ERA1 ¹ or ERA2 since the enactment of the ERA1 statute on December 27, 2020, in an amount exceeding 20% of their initial ERA2 allocation. To receive this prioritization, a grantee must submit to Treasury a certification of, among other things, the amount of non-ERA funding expended on rental or utility assistance substantially similar to eligible uses under ERA1 or ERA2, the sources of these expenditures, and the number of households served. To implement this prioritization system for the Quarter 2 Assessment and subsequent reallocation cycles, Treasury has developed a form for its reallocation portal to collect information needed to confirm that a requesting eligible grantee is entitled to prioritization based on its non-ERA expenditures.

¹ “ERA1” refers to the Emergency Rental Assistance program authorized by the Consolidated Appropriations Act, 2021, Pub. L. 116-260, section 501, 134 Stat. 2069 (Dec. 27, 2020).

In addition to the above-described reallocation process, some grantees choose to voluntarily reallocate a portion of their ERA2 allocations to one or more eligible grantees. To that end, Treasury has also developed, within its reallocation portal, a standard form that grantees use to initiate voluntary reallocation. In accordance with statutory requirements, a grantee may transfer up to 60% of its initial ERA2 allocation.

OMB approved the usage of these various reallocation forms on June 16, 2022. Since then, Treasury has made de minimis changes accounting for the passage of time and other program developments, none of which substantively alter the forms.

Accordingly, the collection of the above-described information is crucial to the reallocation process, which is a central component of the ERA2 program.

Forms: Request for Voluntary Reallocation; Request for Reallocated Funds; Request for Reallocated Funds—Voluntary; Non-ERA Expenditures Report.

Affected Public: States, Territories and local governments who received ERA2 awards.

Estimated Number of Respondents: 482.

Frequency of Response: Once.

Estimated Total Number of Annual Responses: 982.

Estimated Time per Response: Varies from 10-60 minutes.

Estimated Total Annual Burden Hours: 524.4 hours.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Melody Braswell,
Treasury PRA Clearance Officer.

[FR Doc. 2022-23564 Filed 10-28-22; 8:45 am]

BILLING CODE 4810-AK-P